DEPARTMENT OF COMMERCE

Census Bureau

Notice of Correction to Federal Register Notice for 2017 Puerto Rico Census Test

AGENCY: Census Bureau, Commerce.

ACTION: Notice of correction.

SUMMARY: On July 19, 2016, Federal Register Document 2016-16966 was published, which provided the Census Bureau's plans for the 2017 Puerto Rico Census Test. This test was subsequently cancelled. This Correction Notice serves as notification of the cancellation of this test after the Federal Register Notice was published for public comment.

Sheleen Dumas,
PRA Departmental Lead, Office of the Chief Information Officer.

[FR Doc. 2017-04297 Filed 3-3-17; 8:45 am]

BILLING CODE 3510-07-P